POSTAL SERVICE

Temporary Emergency Committee of the Board of Governors; Sunshine Act Meeting

DATE AND TIME: April 14, 2015, at 3 p.m.

PLACE: San Mateo, CA, via Teleconference.

STATUS: Committee Votes to Change Time and Place of its meeting scheduled for April 13 and 14, 2015: By telephone vote on April 8, 2015, members of the Temporary Emergency Committee of the Board of Governors of the United States Postal Service met and voted unanimously to cancel its closed meeting session scheduled for April 13, 2015 in San Mateo, CA, and to begin its closed meeting session scheduled for April 14, 2015 at 3:00 p.m., rather than the previously announced time of 8:30 a.m. Moreover, it voted unanimously to hold the April 14, 2015, meeting in San Mateo, CA via teleconference. The Committee determined that no earlier public notice was possible.

Matters To Be Considered

Tuesday, April 14, 2015, at 3:00 p.m.

1. Strategic Issues.

2. Financial Matters.

3. Pricing.

4. Governors' Executive Session—Discussion of prior agenda items and Board governance.

GENERAL COUNSEL CERTIFICATION: The General Counsel of the United States Postal Service has certified that the meeting may be closed under the Government in the Sunshine Act.

CONTACT PERSON FOR MORE INFORMATION: Requests for information about the meeting should be addressed to the Secretary of the Board, Julie S. Moore, at 202-268-4800.

Julie S. Moore,
Secretary, Board of Governors.

[FR Doc. 2015-08834 Filed 4-14-15; 11:15 am]

BILLING CODE 7710-12-P